OFFICE OF PERSONNEL MANAGEMENT

[OMB Control Number (3206-NEW)]

Agency Information Collection Request: OPM E-File System

AGENCY: Office of Personnel Management.

ACTION: 60-Day notice and request for comments.

SUMMARY: The Office of Personnel Management (OPM) offers the general public the opportunity to comment on a new information collection request (ICR): OPM E-File System, OMB-Control Number (3206-NEW). As required by the Paperwork Reduction Act of 1995, amended by the Clinger-Cohen Act, OPM is soliciting comments for this collection.

DATES: Comments are encouraged and will be accepted until April 7, 2026. This process is conducted in accordance with 5 CFR 1320.8(d)(1).

ADDRESSES: You may submit comments on the Federal Rulemaking Portal: http://www.regulations.gov. Follow the instructions for submitting comments.

The general policy for comments and other submissions from members of the public is to make these submissions available for public viewing at http://www.regulations.gov as they are received without change, including any personal identifiers or contact information.

FOR FURTHER INFORMATION CONTACT: A copy of this ICR, with applicable supporting documentation, may be obtained by contacting may be obtained by contacting David Long, Human Resources Solutions, Office of Personnel Management, 1900 E. Street NW, Washington, DC 20415, via phone at 202-606-1918 or via electronic mail to evidence@opm.gov.

SUPPLEMENTARY INFORMATION: OPM adjudicates appeals under a variety of regulations in 5 CFR Chapter I. These include classification appeals (parts 511 and 532), declination of a “reasonable offer” appeals (part 536, subpart D), compensation and leave claims (5 CFR 178 Subpart A), and Fair Labor Standards Act (FLSA) claims (part 551, subpart G). In addition, OPM has proposed regulations to adjudicate appeals of additional types of actions, including probationary and trial period appeals (see 90 FR 61070, Dec. 30, 2025) and suitability action appeals (see today's issue of the Federal Register). To facilitate agency processing and tracking of appeals, OPM is creating an electronic filing system by which appellants can create an account and file and track their appeals.

As required by the Paperwork Reduction Act, as amended, 44 U.S.C. 3506(c)(2), OPM is soliciting comments for this collection. The Office of Personnel Management is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of Personnel Management.

Title: OPM E-File System.

OMB Number: 3206-NEW.

Frequency: On occasion.

Affected Public: Individuals or Households.

Number of Respondents: 1,380.

Estimated Time per Respondent: 25 minutes.

Total Burden Hours: 575 hours.

Jerson Matias,
Federal Register Liaison, Office of Personnel Management.

[FR Doc. 2026-02445 Filed 2-5-26; 8:45 am]

BILLING CODE 6325-43-P